DEPARTMENT OF COMMERCE

National Oceanic and Atmospheric Administration

50 CFR Part 648

[Docket No. 030314060-3126-02; I.D. 021003E]

RIN 0648-AQ57

Fisheries of the Northeastern United States; Atlantic Mackerel, Squid and Butterfish Fisheries; Framework Adjustment 3

AGENCY: National Marine Fisheries Service (NMFS), National Oceanic and Atmospheric Administration (NOAA), Commerce.

ACTION: Final rule.

SUMMARY: NMFS issues this final rule to implement measures contained in Framework Adjustment 3 (Framework 3) to the Atlantic Mackerel, Squid, and Butterfish Fishery Management Plan (FMP). This action extends the limited entry program for the Illex squid fishery for an additional year and is intended to further the objectives of the FMP and the Magnuson-Stevens Fishery Conservation and Management Act (Magnuson-Stevens Act).

DATES: Effective June 30, 2003.

ADDRESSES: Copies of Framework 3, including the Environmental Assessment (EA), Regulatory Impact Review (RIR) and Final Regulatory Flexibility Analysis (FRFA) are available upon request from Daniel T. Furlong, Executive Director, Mid-Atlantic Fishery Management Council, 300 South New Street, Dover, DE 19904-6790. The EA/RIR/FRFA is accessible via the Internet at http://www.nero.noaa.gov/ro/doc/com.htm.

FOR FURTHER INFORMATION CONTACT: Paul H. Jones, Fishery Policy Analyst, 978-281-9273, fax 978-281-9135, e-mail Paul.H.Jones@noaa.gov.

SUPPLEMENTARY INFORMATION: In 1997, Amendment 5 to the FMP established a limited entry program for the Illex squid fishery in response to a concern that fishing capacity could otherwise expand to overexploit the stock. At the time the program was established, there was a concern that the capacity of the limited entry vessels might prove, over time, to be insufficient to fully exploit the annual quota. In response to this concern, a 5-year sunset provision was placed on the Illex squid limited entry program. Framework 2 to the FMP extended the Illex squid moratorium for 1 year, and it is currently scheduled to end on July 1, 2003. Since the implementation of the limited entry program, the Illex squid fishery's performance has demonstrated that the current fleet possesses the capacity to harvest the long-term potential yield from this fishery. The Mid-Atlantic Fishery Management Council (Council) must prepare an amendment to the FMP (Amendment 9) to evaluate whether or not the limited entry program should be made permanent. In the meantime, this action extends the Illex squid moratorium through July 1, 2004, to prevent overcapitalization while Amendment 9 is being prepared and considered by the Council. This extension would comply with the criteria in section 303(b)(6) of the Magnuson-Stevens Act. The extension would allow the Council additional time to consider long-term management for the Illex squid fishery, including the limited entry program. Vessels that took small quantities of Illex squid in the past may continue to do so under the incidental catch provision of the FMP.

Comments and Responses

The Council developed Framework 3 under the framework abbreviated rulemaking procedure codified at 50 CFR part 648, subpart B. This procedure provided the public with the opportunity to comment on the proposed actions at Council meetings held in October and December 2002. In addition, the proposed rule provided an opportunity for public comment. Two commenters submitted one comment on the proposed rule.

Comment: The commenters supported extending the Illex squid moratorium through July 1, 2004, while Amendment 9 is being prepared and considered by the Council.

Response: This final rule implements the proposed measure.

There were no changes from the proposed rule.

Classification

This final rule has been determined to be not significant for purposes of Executive Order 12866.

The Council and NMFS prepared a FRFA for this action. Two comments were submitted on the proposed rule, but were not specific to the initial regulatory flexibility analysis (IRFA) or economic impacts of the rule. No changes were made to the proposed rule as a result of the comments received. This action does not contain any reporting, or recordkeeping requirements. There are 73 vessels that have been issued moratorium permits, all of which would be impacted by this action. Since the data are not available to calculate per vessel costs for vessels participating in the Illex moratorium fishery, individual vessel profitability could not be estimated. Therefore, changes in gross revenue of the aggregate fleet is used as a proxy for changes in individual vessel profitability. Furthermore, assumptions are made that revenue losses and gains are shared equally among all vessels. NMFS' guidelines suggest consideration of disproportionate economic impacts between large and small entities that may result from the regulatory action. Because there are no large entities (vessels) participating in this fishery, small vessels will not be placed at a competitive disadvantage relative to large vessels, thus rendering the issue of disproportionate impacts between these two classes moot. The FRFA consists of the IRFA and a summary of the analyses done in support of this action. A copy of the analyses is available from the Council (see ADDRESSES) or via the Internet at http://www.nero.noaa.gov/ro/doc/com.htm. A summary of the FRFA follows:

In addition to the preferred Alternative 1, the Council considered three non-preferred alternatives. Alternative 2 would extend the moratorium on entry to the Illex fishery for an additional 2 years (through July 1, 2005); Alternative 3 would extend the moratorium on entry to the Illex fishery for an additional 3 years (through July 1, 2006); and Alternative 4 would allow the moratorium on entry to the Illex fishery to expire on July 1, 2003 (no action).

The preferred alternative and Alternatives 2 and 3 would extend the moratorium on entry of new vessels into the Illex fishery; therefore, no impact is expected on vessels in the fishery in 2003 (and the first half of 2004), compared to individual vessel revenues in 2002. The Council assumed that the market and prices would remain stable. Therefore, any changes in individual vessel revenues would be the result of factors outside the scope of the moratorium (e.g., change in fishing practices for individual vessels, or changes in abundance and distribution of Illex squid).

Under Alternative 4, the no-action alternative, the Illex fishery would revert to open access. This would result in an increase in fishing effort in the Illex fishery. New vessels entering the fishery would limit per vessel share of the Illex squid quota and reduce revenues for the present participants. Computing the total revenue losses for the existing moratorium vessels is impossible due to the unpredictability of redirection of effort into the Illex squid fishery. Therefore, the Council developed a sensitivity analysis to determine the impact of the entry of additional vessels into the fishery on revenues earned by individual vessels already engaged in the fishery. The sensitivity analysis examined three scenarios that presumed revenues derived from landings of Illex squid would be reduced by 75, 50, and 25 percent. The analysis was based on 1998 data because in 1998 the Illex quota was completely harvested. Therefore, those data would allow the greatest impact to be assessed.

Under scenario 1, the review of revenue impacts examined the landings of vessels that landed at least 1 pound (0.45 kg) of Illex in 1998 and presumed that revenues derived from landing Illex for these vessels would be reduced by 75 percent. The 109 impacted vessels (the 73 vessels with moratorium permits, plus open access vessels who landed Illex in 1998) were projected to be impacted by revenue losses that ranged from less than 5 percent for 79 vessels, to a maximum of 40-49 percent for two vessels. There were no impacted vessels home-ported in Maryland, New Hampshire, or Virginia; a high of 15 vessels had home ports in New Jersey. Other impacted vessels were home-ported in Massachusetts, Maine, Rhode Island, New York, and North Carolina. Presumably, other vessels entering the fishery would experience gains in revenues.

Under scenario 2, the review of revenue impacts presumed that vessel revenues derived from landing Illex would be reduced by 50 percent. The 109 impacted vessels were projected to be impacted by revenue losses that ranged from less than 5 percent for 84 vessels, to a maximum of 30-39 percent for one vessel. There were no impacted vessels home-ported in Maryland, New Hampshire, or Virginia; a high of 11 vessels had home ports in New Jersey. Others were in Massachusetts, Maine, Rhode Island, and North Carolina. Presumably, other vessels entering the fishery would experience gains in revenues.

Under scenario 3, the review of revenue impacts presumed that vessel revenues derived from landing Illex would be reduced by 25 percent. The 109 impacted vessels were projected to be impacted by revenue losses that ranged from less than 5 percent, for 88 vessels, to a maximum of 10-19 percent for eight vessels. The number of impacted vessels by home state ranged from none in Maryland, New Hampshire, New York, and Virginia, to a high of 11 in New Jersey. Other impacted vessels were home-ported in Massachusetts, Maine, Rhode Island, and North Carolina.

List of Subjects in 50 CFR Part 648

Fisheries, Fishing, Reporting and recordkeeping requirements.

Dated: May 23, 2003.
Rebecca Lent,
Deputy Assistant Administrator for Regulatory programs, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.4, the heading of paragraph (a)(5)(i) is revised to read as follows:

§ 648.4 Vessel permits.

(a) * * *

(5) * * *

(i) Loligo squid/butterfish and Illex squid moratorium permits (Illex squid moratorium is applicable from July 1, 1997, until July 1, 2004). * * *

* * * * *

[FR Doc. 03-13419 Filed 5-28-03; 8:45 am]

BILLING CODE 3510-22-S